DEPARTMENT OF COMMERCE

National Institute of Standards and Technology

Open Meeting of the Information Security and Privacy Advisory Board

AGENCY: National Institute of Standards and Technology, Department of Commerce.

ACTION: Notice.

SUMMARY: The Information Security and Privacy Advisory Board (ISPAB) will meet Wednesday, August 7, 2019 from 9:00 a.m. until 5:00 p.m., Eastern Time, and Thursday, August 8, 2019 from 9:00 a.m. until 4:30 p.m., Eastern Time. All sessions will be open to the public.

DATES: The meeting will be held on Wednesday, August 7, 2019, from 9:00 a.m. until 5:00 p.m., Eastern Time, and Thursday, August 8, 2019, from 9:00 a.m. until 4:30 p.m., Eastern Time.

ADDRESSES: The meeting will be held at American Institute of Architects, 1735 New York Ave. NW, Washington, DC 20006.

FOR FURTHER INFORMATION CONTACT: Jeff Brewer, Information Technology Laboratory, NIST, 100 Bureau Drive, Stop 8930, Gaithersburg, MD 20899-8930, Telephone: (301) 975-2489, email address: jeffrey.brewer@nist.gov.

SUPPLEMENTARY INFORMATION: Pursuant to the Federal Advisory Committee Act, as amended, 5 U.S.C. App., notice is hereby given that the ISPAB will meet Wednesday, August 7, 2019, from 9:00 a.m. until 5:00 p.m., Eastern Time, and Thursday, August 8, 2019 from 9:00 a.m. until 4:30 p.m. Eastern Time. All sessions will be open to the public. The ISPAB is authorized by 15 U.S.C. 278g-4, as amended, and advises the National Institute of Standards and Technology (NIST), the Secretary of Homeland Security, and the Director of the Office of Management and Budget (OMB) on information security and privacy issues pertaining to Federal government information systems, including thorough review of proposed standards and guidelines developed by NIST. Details regarding the ISPAB's activities are available at https://csrc.nist.gov/projects/ispab.

The agenda is expected to include the following items:

—Briefing from NIST on The Cybersecurity Workforce Executive Order,

—Briefing from NIST on Supply Chain Risk Management,

—Briefing from DHS on Critical Infrastructure National Critical Functions,

—Briefing from GAO on reports on cybersecurity acquisitions,

—Briefing from Industry on Network Threats,

—Discussion by the Board on the NSTAC Moonshot Report,

—Discussions by the Board on IOT security.

Note that agenda items may change without notice. The final agenda will be posted on the website indicated above. Seating will be available for the public and media. Pre-registration is not required to attend this meeting.

Public Participation: The ISPAB agenda will include a period, not to exceed thirty minutes, for oral comments from the public (Wednesday, August 7, 2019, between 4:30 p.m. and 5:00 p.m.). Speakers will be selected on a first-come, first-served basis. Each speaker will be limited to five minutes. Questions from the public will not be considered during this period. Members of the public who are interested in speaking are requested to contact Jeff Brewer at the contact information indicated in the FOR FURTHER INFORMATION CONTACT section of this notice.

Speakers who wish to expand upon their oral statements, those who had wished to speak but could not be accommodated on the agenda, and those who were unable to attend in person are invited to submit written statements. In addition, written statements are invited and may be submitted to the ISPAB at any time. All written statements should be directed to the ISPAB Secretariat, Information Technology Laboratory, 100 Bureau Drive, Stop 8930, National Institute of Standards and Technology, Gaithersburg, MD 20899-8930.

Kevin A. Kimball,
Chief of Staff.

[FR Doc. 2019-15402 Filed 7-18-19; 8:45 am]

BILLING CODE 3510-13-P